NATIONAL AERONAUTICS AND SPACE ADMINISTRATION

[Document Number NASA-22-060; Docket Number-NASA-2022-0002]

National Environmental Policy Act; Mars Sample Return Campaign; Correction

AGENCY: National Aeronautics and Space Administration (NASA).

ACTION: Notice; correction.

SUMMARY: NASA published a document in the Federal Register of May 25, 2023 concerning the availability of the Mars Sample Return (MSR) Campaign Final Programmatic Environmental Impact Statement (PEIS). The document was published one week early, which created incorrect information in the DATES caption.

FOR FURTHER INFORMATION CONTACT: Mr. Steve Slaten, NASA Jet Propulsion Laboratory, by electronic mail at Mars-sample-return-nepa@lists.nasa.gov or by telephone at 202-358-0016. For questions regarding viewing the Docket, please call Docket Operations, telephone: 202-366-9317 or 202-366-9826.

SUPPLEMENTARY INFORMATION:

Correction

In the Federal Register of May 25, 2023, in FR Doc 2023-11703, on page 33919, in the second column, correct the DATES caption to read:

DATES: NASA will document its decision regarding alternative implementation in a Record of Decision (ROD), which would be signed no sooner than July 2, 2023, after the 30-day mandatory Final PEIS waiting period is complete as required by 40 CFR 1506.11(b)(2).

Cheryl Parker,
Federal Register Liaison Officer.

[FR Doc. 2023-11750 Filed 6-1-23; 8:45 am]

BILLING CODE P